DEPARTMENT OF JUSTICE

Antitrust Division

Notice Pursuant to the National Cooperative Research and Production Act of 1993—Z-Wave Alliance, Inc.

Notice is hereby given that, on November 28, 2022, pursuant to Section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Springs Window Fashion s, LLC, Middleton, WI; Quext IoT, LLC, Lubbock, TX; Shenzhen Kaadas Intelligent Technology Co., Ltd., Shenzhen, PEOPLE'S REPUBLIC OF CHINA; V-MARK Enterprises Ltd., Vancouver, CANADA; and Venture Industries SP Z O O, Kielpin, POLAND have joined as parties to the venture.

Also, Satco Products Inc., Brentwood, NY; KWSM Group, Bridgeman Downs, AUSTRALIA; BBM Corporation, Tokyo, JAPAN; Nihon Lock Service Co., Ltd., Tokyo, JAPAN; Eneco, Amsterdam, THE NETHERLANDS; PayLease, LLC DBA Zego, San Diego, CA; SHENZHEN SEI ROBOTICS CO., LTD., Shenzhen, PEOPLE'S REPUBLIC OF CHINA; idomotique GmbH, Grenchen, SWITZERLAND; Smart Electronic Industrial (Dongguan) Co., Limited, Dongguan City, PEOPLE'S REPUBLIC OF CHINA; CIMA Group, Miami, FL; devolo AG, Aachen, GERMANY; Paxton Access Ltd., Brighton, UNITED KINGDOM; and CHUBU TELECOMMUNICATIONS CO., INC, Nagoya, JAPAN have withdrawn as parties to the venture.

No other changes have been made in either the membership or the planned activity of the venture. Membership in this venture remains open, and the Joint Venture intends to file additional written notifications disclosing all changes in membership.

On November 19, 2020, the Joint Venture filed its original notification pursuant to Section 6(a) of the Act. The Department of Justice published a notice in the Federal Register pursuant to Section 6(b) of the Act on December 1, 2020 (85 FR 77241).

The last notification was filed with the Department on September 2, 2022. A notice was published in the Federal Register pursuant to Section 6(b) of the Act on November 7, 2022 (87 FR 67069).

Suzanne Morris,
Deputy Director of Civil Enforcement Operations, Antitrust Division.

[FR Doc. 2023-01353 Filed 1-23-23; 8:45 am]

BILLING CODE 4410-11-P